DEPARTMENT OF THE INTERIOR

Bureau of Land Management

[CO-200-1430-FR; COC-64330]

Notice of Realty Action: Recreation and Public Purposes (R&PP) Act Classification; Logan County, CO

AGENCY: Bureau of Land Management, Interior.

ACTION: Notice of realty action.

SUMMARY: The following public land parcel in Logan County, Colorado, has been examined and found suitable for classification for conveyance to the Colorado Division of Wildlife under the provision of the Recreation and Public Purposes Act, as amended, 43 U.S.C. 869 et seq., and under sec. 7 of the Taylor Grazing Act, 43 U.S.C. 315f, and E.O. 6910.

Sixth Principal Meridian, Colorado

T. 7 N., R. 53 W.,

Sec. 26, NE¼SE1/4.

The area described contains 40 acres in Logan County.

The Colorado Division of Wildlife (CDOW) has not applied for more than the 6,400 acre limitation for recreation uses in a year.

The CDOW has submitted a statement in compliance with the regulations at 43 CFR 2741.4(b). The CDOW proposes to use the land as an addition to its existing Overland State Wildlife Park. The CDOW has not requested more land than is needed for their development and management plans.

DATES: Comments as to the proposed classification and conveyance application must be received by BLM for a period of 45 days from the date of publication of this notice in the Federal Register.

ADDRESSES: Detailed information, including but not limited to, a proposed development plan and documentation relating to compliance with applicable environmental and cultural resources laws is available for review at the Royal Gorge Field Office, Bureau of Land Management, 3170 East Main Street, Canon City, Colorado 81212.

FOR FURTHER INFORMATION CONTACT: Debbie Bellew, Realty Specialist, at (719) 269-8514 or dbellew@co.blm.gov.

SUPPLEMENTARY INFORMATION: The CDOW has filed a petition-application under the provisions of the Recreation and Public Purposes Act, as amended (43 U.S.C. 869 et seq.) for classification and conveyance. The land is not needed for any Federal purposes and has been identified for disposal in the Northeast Colorado Resource Management Plan (September 1986). Conveyance of the land for recreational or public purposes is consistent with current BLM land use planning and would complement the CDOW's outdoor recreation program and would be in the public interest.

All interested parties will receive a copy of this notice once it is published in the Federal Register. The notice will be published in a newspaper of local circulation for three consecutive weeks. The regulations do not require a public meeting.

Upon publication of this notice in the Federal Register the parcel will be segregated from all other forms of appropriation under the public land laws, including the general mining laws, except for conveyance under the Recreation and Public Purposes Act and leasing under the mineral leasing laws.

The conveyance of the land, when issued, will be subject to the following terms, conditions and reservations:

1. A reservation to the United States for ditches and canals constructed by the authority of the United States Act of August 30, 1890 (43 U.S.C. 945).

2. Provisions of the Recreation and Public Purposes Act and to all applicable regulations of the Secretary of the Interior.

3. All mineral deposits in the parcel shall be reserved to the United States together with the right to prospect for, mine and remove the minerals.

4. All valid existing rights documented on the official public land records at the time of patent issuance.

5. Pursuant to the authority contained in Section 3(d) of Executive Order 11988 of May 24, 1977 (42 FR 26951) and the Recreation and Public Purposes Act of 1926 as amended, 43 U.S.C. 869 et seq., the patent will be subject to a restriction which constitutes a covenant running with the land, that the land, which is within the floodplain of the South Platte River, may be used only for non-intensive open space recreation.

6. Indemnification Term: The patentee, by accepting the patent, covenants and agrees to indemnify, defend, and hold the United States harmless from any costs, damages, claims, causes of action, penalties, fines, liabilities, and judgments of any kind arising from the past, present, or future acts or omissions of the patentee, its employees, agents, contractor, or lessees, or any third party, arising out of, or in connection with, the patentee's use, occupancy or operations on the patented real property. This indemnification and hold harmless agreement includes, but is not limited to, acts and omissions of the patentee and its employees, agents, contractors or lessees, or any third party, arising out of or in connection with the use and/or occupancy of the patented real property which has already resulted or does hereafter result in: (1) Violations of Federal, State and local laws and regulations that are now, or may in the future, become applicable to the real property; (2) Judgments, claims, or demands of any kind assessed against the United States; (3) Costs, expenses, or damages of any kind incurred by the United States; (4) Releases or threatened releases of solid or hazardous waste(s) and/or hazardous substance(s) as defined by Federal or State environmental laws, off, on, into, or under land, property, and other interests of the United States; (5) Activities by which solids or hazardous substances or wastes, as defined by Federal and State environmental laws are generated, released, stored, used, or otherwise disposed of on the patented real property, and any cleanup response, remedial action, or other actions related in any manner to said solid or hazardous substance(s) or waste(s); or (6) natural resource damages as defined by Federal and State law. This covenant shall be construed as running with the patented real property and may be enforced by the United States in a court of competent jurisdiction.

7. CERCLA Term: “Pursuant to the requirements established by section 120(h) of the Comprehensive Environmental Response, Compensation and Liability Act (42 U.S.C. 9620(h)) (CERCLA), as amended by the Superfund Amendments and Reauthorization Act of 1988, (100 Stat. 1670), notice is hereby given that the above-described parcel has been examined and no evidence was found to indicate that any hazardous substances have been stored for one year or more, nor had any hazardous substances been disposed of or released on the subject property.”

Classification Comments: Interested persons may submit comments involving the suitability of the land for development as a recreational area to include: a graveled parking lot, boundary fencing, informational signs, food plots (.5-1.5 ac), hunter access paths and flushing strips. Comments on the classification are restricted to whether the land is physically suited for the proposal, whether the use will maximize the future use or uses of the land, whether the use is consistent with local planning and zoning, or if the use is consistent with State and Federal programs.

Application Comments: Interested persons may submit comments, including notification of any encumbrances or other claim relating to the parcel, and regarding the specific use proposed in the application and plan of development, whether the BLM followed proper administrative procedures in reaching the decision, or any other factors not directly related to the suitability of the land for recreational use and development. Any adverse comments will be reviewed by the BLM State Director, Colorado. In the absence of any adverse comments, this realty action will become effective 60 days after publication of this Notice of Realty Action in the Federal Register. The land will not be offered for conveyance until after the classification becomes effective. Before including your address, phone number, e-mail address, or other personal identifying information in your comment, be advised that your entire comment—including your personal identifying information—may be made publicly available at any time. While you can ask us in your comment to withhold from public review your personal identifying information, we cannot guarantee that we will be able to do so. If you wish to have your name or address withheld from public disclosure under the Freedom of Information Act, you must state it prominently at the beginning of your comments. Any determination by the BLM to release or withhold the names and/or addresses of those who comment will be made on a case-by-case basis. Such requests will be honored to the extent allowed by law. BLM will make available for public review, in their entirety, all comments submitted by businesses or organizations, including comments by individuals in their capacity as an official or representative of an organization or business.

(Authority: 43 Code of Federal Regulations (CFR) 2741.5)

Roy L. Masinton,
Field Manager, Royal Gorge Field Office.

[FR Doc. E7-23120 Filed 11-28-07; 8:45 am]

BILLING CODE 4310-JB-P